ENVIRONMENTAL PROTECTION AGENCY

40 CFR Part 52

[DE061-DE066 -1034; FRL-7375-4]

Approval and Promulgation of Air Quality Implementation Plans; Six Control Measures to Meet EPA-Identified Shortfalls in Delaware's One-Hour Ozone Attainment Demonstration

AGENCY: Environmental Protection Agency (EPA).

ACTION: Proposed rule.

SUMMARY: EPA is proposing to approve a State Implementation Plan (SIP) revision submitted by the State of Delaware. This proposed revision consists of six control measures to meet EPA-identified shortfalls in Delaware's one-hour ozone attainment demonstration. The intended effect of this action is to propose approval of the six control measures.

DATES: Written comments must be received on or before October 15, 2002.

ADDRESSES: Written comments may be mailed to David L. Arnold, Chief, Air Quality Planning and information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and Delaware Department of Natural Resources & Environmental Control, 89 Kings Highway, P.O. Box 1401, Dover, Delaware 19903.

FOR FURTHER INFORMATION CONTACT: Rose Quinto, (215) 814-2182, or by e-mail at quinto.rose@epa.gov. Please note that while questions may be posed via telephone and e-mail, formal comments must be submitted in writing, as indicated in the ADDRESSES section of this document.

SUPPLEMENTARY INFORMATION: On March 1, 2002, the Delaware Department of Natural Resources and Environmental Control (DNREC) submitted to EPA revisions to the Delaware's State Implementation Plan (SIP). These revisions consist of six control measures to meet EPA-identified shortfalls in Delaware's one-hour ozone attainment demonstration for the Philadelphia-Wilmington-Trenton severe nonattainment area (64 FR 70444, December 16, 1999 and 66 FR 54598, October 29, 2001). These six control measures also fulfill Delaware's commitment to adopt measures to address the shortfalls. In addition, Delaware submitted a technical support document (TSD), entitled, Measures to Meet the EPA-Identified Shortfalls in Delaware's Phase II Attainment Demonstration for the Philadelphia-Wilmington-Trenton Ozone Nonattainment Area (November 11, 2001), which indicates the reductions achieved by these adopted measures.

I. Background

In December 1999, EPA identified emission reduction shortfalls in several one-hour ozone nonattainment areas in the Ozone Transport Region and required those areas to address the shortfalls. The Ozone Transport Commission (OTC) developed control measures into model rules for a number of source categories and estimated emission reduction benefits from implementing those model rules that will close the shortfalls.

II. Summary of the SIP Revisions

The following are the six control measures, which are based on the model rules developed by OTC, that Delaware adopted and submitted to EPA on March 1, 2002, as SIP revisions to meet the shortfalls:

(1) Regulation 24, Control of Volatile Organic Compound (VOC) Emissions, Section 11—Mobile Equipment Repair and Refinishing—applies to any person who applies coatings to mobile equipment, such as cars, trucks, and/or tractors for beautification or protection in the State of Delaware. The regulation establishes: (a) Requirements for using improved transfer efficiency coating and application equipment, such as high volume low pressure spray guns; (b) requirements for enclosed spray gun cleaning techniques; and (c) minimum training standards in the proper use of equipment and materials. VOC limits for mobile equipment repair and refinishing coatings are in effect nationally under the Federal requirements at 40 CFR part 59, subpart B, National VOC Emission Standards for Automobile Refinish Coatings, which was adopted by EPA in 1998.

(2) Regulation 24, Control of VOC Emissions, Section 33—Solvent Cleaning and Drying—applies to any person who owns or operates solvent cleaning machines that contain more than one liter of solvent, and that uses any solvent containing VOCs in a total concentration greater than 5 percent by weight, as a cleaning and/or drying agent. The regulation defines applicability, compliance, notification, monitoring, recordkeeping, and reporting requirements similar to the OTC model rule. The regulation also includes standards for batch cold cleaning machines, batch vapor cleaning machines, in-line cleaning machines, and cleaning machines not having a solvent/air interface. An alternative standard for a batch vapor or in-line cleaning machine is also included.

(3) Regulation 41, Limiting VOC Emissions from Consumer and Commercial Products, Section 1—Architectural and Industrial Maintenance (AIM) Coatings—applies to any person who supplies, sells, offers for sale, blends, repackages for sale, or manufactures any architectural coating for use in the State of Delaware. The types of coatings affected in this regulation include a broad range of products from paints to lacquers, varnishes, roof coatings, waterproofing sealers and various others specialty formulations. This regulation does not apply to any architectural coating that is sold or manufactured for use outside the State of Delaware or for shipment to other manufacturers for reformulation or repackaging; any aerosol coating product; or any architectural coating that is sold in a container with a volume of one liter (1.057 quarts) or less. The regulation establishes requirements for container labeling, reporting and recordkeeping, test methods, and compliance provisions.

(4) Regulation 41, Limiting VOC Emissions from Consumer and Commercial Products, Section 2—Commercial Products—applies to any person who sells, supplies, offers for sale, or manufactures consumer products in the State of Delaware. This regulation has 89 categories of regulated products. Also included in the regulation are the VOC content limits, standards and exemptions, innovative products, administrative requirements, recordkeeping and reporting requirements, variances, test methods, severability, and an alternative control plan.

(5) Regulation 41, Limiting VOC Emissions from Consumer and Commercial Products, Section 3—Portable Fuel Containers—specifically concerns the use of portable containers, and to reduce refueling emissions from equipment and engines that are predominantly refueled with portable containers. This regulation applies to any person who sells, supplies, offers for sale, or manufactures for sale portable fuel containers or spouts, or both portable fuel container for use in the State of Delaware. This regulation will require each portable fuel container and/or spout sold to meet the following requirements: (a) Have an automatic shut-off and closure device; (b) contain one opening for filling, pouring, and venting; (c) provide certain fuel flow based on nominal capacity; and (d) meet a permeation standard. Also, included in the regulation are exemptions, standards, testing procedures, recordkeeping, and administrative requirements.

(6) Regulation 42, Specific Emission Control Requirements, Section 1—Control of Nitrogen Oxides (NOX) Emissions from Industrial Boilers—is designed to reduce the emissions of NOX from industrial boilers. This regulation would set NOX emission rates applicable to sources that remain high NOX emitters even after the application of reasonably available control technology (RACT) and post-RACT requirements, and have not committed substantial capital funds to reduce these NOX emissions. This regulation applies to any person that owns or operates any combustion unit with a maximum heat input capacity of equal to or greater than 100 million btu per hour. Also, included in the regulation are exemptions, standards, monitoring, recordkeeping and reporting requirements.

III. Proposed Action

EPA is proposing to approve the Delaware SIP revision for the six control measures based on the model rules developed by OTC, to meet EPA-identified shortfalls in Delaware's one-hour ozone attainment demonstration submitted on March 1, 2002. The implementation of the OTC model rules will result in emission reductions to close the EPA identified attainment shortfalls for the Philadelphia-Wilmington-Trenton nonattainment area and 19 counties within 100 kilometers of the nonattainment area. The six control measures are: (1) control of VOC emissions from mobile equipment repair and refinishing; (2) control of VOC emissions from solvent cleaning and drying; (3) control of VOC emissions from AIM coatings; (4) control of VOC emissions from consumer products; (5) control of VOC emissions from portable fuel containers; and (6) control of NOX emissions from industrial boilers. EPA is soliciting public comments on the issues discussed in this document or on other relevant matters. These comments will be considered before taking final action. Interested parties may participate in the Federal rulemaking procedure by submitting written comments to the EPA Regional office listed in the ADDRESSES section of this document. A more detailed description of the State submittal and EPA's evaluation are included in a TSD prepared in support of this rulemaking action. A copy of the TSD is available, upon request, from the EPA Regional Office listed in the ADDRESSES section of this document.

IV. Administrative Requirements

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355 (May 22, 2001)). This action merely proposes to approve State law as meeting Federal requirements and imposes no additional requirements beyond those imposed by State law. Accordingly, the Administrator certifies that this proposed rule will not have a significant economic impact on a substantial number of small entities under the Regulatory Flexibility Act (5 U.S.C. 601 et seq.). Because this rule proposes to approve pre-existing requirements under State law and does not impose any additional enforceable duty beyond that required by State law, it does not contain any unfunded mandate or significantly or uniquely affect small governments, as described in the Unfunded Mandates Reform Act of 1995 (Public Law 104-4). This proposed rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a State rule implementing a Federal standard, and does not alter the relationship or the distribution of power and responsibilities established in the Clean Air Act. This proposed rule also is not subject to Executive Order 13045 (62 FR 19885, April 23, 1997), because it is not economically significant.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by Section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order.

This proposed rule pertaining to six control measures to meet EPA-identified shortfalls in Delaware's one-hour ozone attainment demonstration, does not impose an information collection burden under the provisions of the Paperwork Reduction Act of 1995 (44 U.S.C. 3501 et seq.).

List of Subjects in 40 CFR Part 52

Environmental protection, Air pollution control, Intergovernmental relations, Nitrogen dioxide, Ozone, Reporting and recordkeeping requirements, Volatile Organic Compounds.

Authority: 42 U.S.C. 7401 et seq.

Dated: August 30, 2002.
James W. Newsom,
Acting Regional Administrator, Region III.

[FR Doc. 02-23259 Filed 9-11-02; 8:45 am]

BILLING CODE 6560-50-P